NUCLEAR REGULATORY COMMISSION

[NRC-2023-0139]

Use of GovDelivery Subscription Services for Non-Power Production and Utilization Facilities Correspondence

AGENCY: Nuclear Regulatory Commission.

ACTION: Notice.

SUMMARY: The U.S. Nuclear Regulatory Commission (NRC) is issuing this document to inform the public that, as of April 13, 2023, publicly available non-power production and utilization facilities (NPUFs) correspondence originating from the NRC Office of Nuclear Reactor Regulation (NRR), Division of Advanced Reactors and Non-Power Production and Utilization Facilities (DANU) will be transmitted by a digital communications platform, GovDelivery, as an electronic mail distribution system, to addressees and subscribers. This change does not affect the ability of any members of the public to obtain official agency records in the NRC's Agencywide Documents Access and Management System (ADAMS).

DATES: August 4, 2023.

ADDRESSES: Please refer to Docket ID NRC-2023-0139 when contacting the NRC about the availability of information regarding this document. You may obtain publicly available information related to this document using any of the following methods:

• Federal Rulemaking Website: Go to https://www.regulations.gov and search for Docket ID NRC-2023-0139. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Paulette Torres, Office of Nuclear Reactor Regulation, U.S. Nuclear Regulatory Commission, Washington, DC 20555-0001; telephone: 301-415-5656; email: Paulette.Torres@nrc.gov.

SUPPLEMENTARY INFORMATION:

The electronic mail distribution process for NRC public documents was first utilized by NRR for operating power reactor correspondence. The electronic mail distribution process distributes publicly available documents generated by the NRC/NRR/DANU staff to individuals who are subscribed to GovDelivery. GovDelivery does not provide notice of documents generated by external parties, or NRC documents that contain proprietary, security-related, safeguards, or other information that is withheld from public disclosure.

The NRC/NRR/DANU staff implemented the electronic mail distribution via GovDelivery for NPUFs on April 13, 2023. Individuals may subscribe to receive applicable NPUF correspondence by following these steps: (1) Go to the NRC's public website at www.nrc.gov; (2) click on “Email Updates” in the upper right-hand corner; (3) scroll down to the “GovDelivery Subscription Services” section; (4) click on the “GovDelivery” link; (5) enter the requested email address and click “Submit”; (6) follow the prompts to confirm the email address and add an optional password; (7) check the box to consent to the NRC's data privacy policy for using its public website and click “Submit”; (8) once completed, a list of “Subscription Topics” will be displayed; choose “Non-Power Production and Utilization Facilities (NPUFs),” check/uncheck the box(es) for specific topics, and click “Submit” to subscribe.

Once subscribed, subscribers will receive an email confirmation from the NRC with instructions for managing their NRC GovDelivery subscription, including how to change their email address and how to unsubscribe. Subscribers are responsible for ensuring that NRC GovDelivery is updated with their current email address.

Dated: August 1, 2023.
For the Nuclear Regulatory Commission.
Duane A. Hardesty,
Acting Chief, Non-Power Production and Utilization Facility Licensing Branch, Division of Advanced Reactors and Non-Power Production and Utilization Facilities, Office of Nuclear Reactor Regulation.

[FR Doc. 2023-16703 Filed 8-3-23; 8:45 am]

BILLING CODE 7590-01-P